ENVIRONMENTAL PROTECTION AGENCY

[FRL-6936-1]

Meeting of the Local Government Advisory Committee

AGENCY: Environmental Protection Agency (EPA).

ACTION: Notice.

SUMMARY: The Local Government Advisory Committee will meet on February 8-9, 2001, in San Diego, CA. At this meeting, members of the LGAC's Resolution Session Team will present to the full Committee the agreements reached at the Resolution Session on December 8, 2000, for the consideration and acceptance by the full Committee. The Resolution Session was a meeting between an LGAC team and a Small Community Advisory Subcommittee (SCAS) team to resolve issues regarding how the two groups work together—intra-committee management issues. The Issues and Process Subcommittees of the LGAC will update the full Committee on their progress since the previous meeting and continue to work on their recommendations under development, including Total Maximum Daily Load, Ozone/PM 2.5, Land Use Credits and EPA's Public Involvement Policy. The full Committee also will consider for adoption recommendations developed by SCAS concerning sustainability and the EPA small town enforcement policy.

The Committee will hear comments from the public between 2:00 p.m. and 2:15 p.m. on February 8. Each individual or organization wishing to address the Committee will be allowed a minimum of three minutes. Please contact the Designated Federal Officer (DFO) at the number listed below to schedule agenda time. Time will be allotted on a first come, first served basis.

This is an open meeting and all interested persons are invited to attend. Meeting minutes will be available after the meeting and can be obtained by written request from the DFO. Members of the public are requested to call the DFO at the number listed below if planning to attend so that arrangements can be made to comfortably accommodate attendees as much as possible. However, seating will be on a first come, first served basis.

DATES: The meeting will begin at 9:00 a.m. on Thursday, February 8 and conclude at 4:00 p.m. on February 9, 2001.

ADDRESSES: The meetings will be held in San Diego, California at the City of San Diego's Environmental Services Department located at 9601 Ridgehaven Court in the auditorium.

Requests for Minutes and other information can be obtained by writing the DFO at 1200 Pennsylvania Avenue, NW (1306A), Washington, DC 20460.

FOR FURTHER INFORMATION CONTACT: The DFO for this Committee is Denise Zabinski Ney. She is the point of contact for information concerning any Committee matters and can be reached by calling (202) 564-3684 or by email at ney.denise@epa.gov.

Dated: January 12, 2001.
Denise Zabinski Ney,
Designated Federal Officer, Local Government Advisory Committee.

[FR Doc. 01-1978 Filed 1-22-01; 8:45 am]

BILLING CODE 6560-50-P